DEPARTMENT OF THE INTERIOR

National Park Service

Notice of Intent to Repatriate a Cultural Item: U.S. Department of Defense, Army Corps of Engineers, Walla Walla District, Walla Walla, WA and Museum of Anthropology, Washington State University, Pullman, WA

AGENCY: National Park Service, Interior.

ACTION: Notice.

Notice is here given in accordance with the Native American Graves Protection and Repatriation Act (NAGPRA), 25 U.S.C. 3005, of the intent to repatriate a cultural item in the possession of the U.S. Department of Defense, Army Corps of Engineers, Walla Walla District, Walla Walla, WA, and Museum of Anthropology, Washington State University, Pullman, WA, that meets the definition of “unassociated funerary object” under 25 U.S.C. 3001.

This notice is published as part of the National Park Service's administrative responsibilities under NAGPRA, 25 U.S.C. 3003(d)(3). The determinations in this notice are the sole responsibility of the museum, institution, or Federal agency that has control of the cultural item. The National Park Service is not responsible for the determinations in this notice.

In 1968, an unassociated funerary object was removed from the floodplain area of site 45FR50, Marmes Rockshelter, in Franklin County, WA, during excavations conducted by Washington State University under contract with the Army Corps of Engineers. The object is an articulated owl foot, originally found between two modified stone flakes, in the Marmes Windust Phase stratum at the site (11,000-8,000 BP). The object - the owl foot bones and two modified chert or chalcedony flakes - was accessioned by Washington State University under inventory number 5780.

Site 45FR50 consists of a rockshelter and sloping floodplain area in front of the rockshelter proper. The archeological materials at site 45FR50 have been variously classified into chronological and cultural phases, and include the Windust Phase (+11,000-8000 BP), Cascade Phase (8000-4500 BP), Tucannon Phase (4500-2500 BP), and Harder Phase (2500-500 BP). The floodplain deposits date from the earliest period, or the Windust Phase.

Human remains representing a minimum of four individuals and associated funerary objects were excavated from the floodplain deposits. The associated funerary objects included 23 pieces of faunal material directly associated with the human remains, and four bone rods found with a specific individual identified at the time of excavation as Marmes I. Other cultural items excavated from the earliest deposit (Windust Phase) include stone tools and lithic debitage, worked and unworked faunal bone, and possibly some red ochre. The owl foot object (consisting of the owl foot bones and two modified flakes) was excavated from the Windust Phase stratum, but was not found in direct association with any human remains. However, owls are important in southern Plateau Native American culture as ceremonial symbols, and items such as the owl foot object are still used as funerary items in Yakama and Nez Perce burials. Owl parts were often buried with medicine men because they were thought to be too powerful for anyone else to possess. Therefore, officials of the U.S. Department of Defense, Army Corps of Engineers, Walla Walla District, reasonably believe the object is an unassociated funerary object.

Archeological evidence provides the most direct line of evidence supporting affiliation between an earlier group and a present-day Indian tribe. The evidence found at site 45FR50, and in nearby archeological sites, supports a nearly continuous occupation of this region of the Columbia Plateau beginning as far back as 11,500 years. The archeological assemblage of site 45FR50 represents a long sequence of cultural occupation. Archeological and geological connections at the site can be drawn both horizontally across the site, from the rockshelter to the floodplain and across the floodplain, and also vertically, from the earlier deposits to the later deposits. Cultural continuity from the earliest to latest occupations within the site can be traced through the changes in the use of subsistence resources (marine and other) and the gradual changes in lithic assemblages. Additionally, the presence of the articulated owl foot object provides further support for cultural affiliation. The owl image is commonly seen in petroglyphs and on stone objects in the region. The Sahaptin languages have words for owls, and “owl” appears in the names of individuals (for example, there is a Maynard White Owl Lavadour of the Confederated Tribes of the Umatilla Indian Reservation). The owl is a primary character in many Nez Perce Coyote stories, and is often characterized as having superior abilities. Cultural practices of historic Native groups in the region include owl dances.

Geographical and anthropological lines of evidence support the archeological evidence of earlier group habitation in the same geographic location as the historic groups. Anthropologically, evidence for continuity includes the presence of red ochre and olivella shells in the earliest Windust Phase deposits, continuing into later deposits and found in the later burials. Finally, oral tradition evidence provided by tribal elders indicates a large Palus village, which had been inhabited by tribal ancestors from time immemorial, was once located near the Marmes Rockshelter, site 45FR50. According to tribal elders, their ancestors were mobile and traveled the landscape to gather resources, as well as to trade.

Ethnographic documentation indicates that the present-day location of the Marmes Rockshelter in Franklin County, WA, is within the territory occupied historically by the Palus (Palouse) Indians. During the historic period, the Palouse people settled along the Snake River; relied on fish, game, and root resources for subsistence; shared their resource areas and maintained extensive kinship connections with other groups in the area; and had limited political integration until the adoption of the horse (Walker 1998). These characteristics are common to the greater Plateau cultural communities surrounding the Palouse territory including the Nez Perce, Cayuse, Walla Walla, Yakama, and Wanapum groups. Moreover, information provided during consultation by representatives of the Confederated Tribes of the Colville Reservation, Washington; Confederated Tribes of the Umatilla Indian Reservation, Oregon; Confederated Tribes and Bands of the Yakama Nation, Washington; Nez Perce Tribe, Idaho; and the Wanapum Band, a non-Federally recognized Indian group, substantiate shared past and present traditional lifeways that bind the aforementioned Indian tribes and the Wanapum Band to common ancestors. The descendants of these Plateau communities of southeastern Washington are now widely dispersed and are members of the Confederated Tribes of the Colville Reservation, Washington; Confederated Tribes of the Umatilla Indian Reservation, Oregon; Confederated Tribes and Bands of the Yakama Nation, Washington; Nez Perce Tribe, Idaho; and the Wanapum Band, a non-Federally recognized Indian group.

Officials of the U.S. Department of Defense, Army Corps of Engineers, Walla Walla District, have determined that, pursuant to 25 U.S.C. 3001(3)(B), the one cultural item described above is reasonably believed to have been placed with or near individual human remains at the time of death or later as part of the death rite or ceremony and is believed, by a preponderance of the evidence, to have been removed from a specific burial site of an Native American individual. Officials of the U.S. Department of Defense, Army Corps of Engineers, Walla Walla District, also have determined that, pursuant to 25 U.S.C. 3001(2), there is a relationship of shared group identity that can be reasonably traced between the unassociated funerary object and the Confederated Tribes of the Colville Reservation, Washington; Confederated Tribes of the Umatilla Indian Reservation, Oregon; Confederated Tribes and Bands of the Yakama Nation, Washington; and the Nez Perce Tribe, Idaho. Furthermore, officials of the U.S. Department of Defense, Army Corps of Engineers, Walla Walla District, have determined that there is a cultural relationship between the unassociated funerary object and the Wanapum Band, a non-Federally recognized Indian group.

Representatives of any other Indian tribe that believes their tribe is culturally affiliated with the unassociated funerary object should contact LTC Michael Farrell, U.S. Department of Defense, Army Corps of Engineers, Walla Walla District, 201 North Third Ave., Walla Walla, WA 99362-1876, telephone (509) 527-7700, before June 11, 2010. Repatriation of the unassociated funerary objects to the Confederated Tribes of the Colville Reservation, Washington; Confederated Tribes of the Umatilla Indian Reservation, Oregon; Confederated Tribes and Bands of the Yakama Nation, Washington; and Nez Perce Tribe, Idaho, may proceed after that date if no additional claimants come forward. The U.S. Department of Defense, Army Corps of Engineers, Walla Walla District, recognizes the participation of the Wanapum Band, a non-Federally recognized Indian group, during the transfer of the cultural item to the Indian tribes.

The U.S. Department of Defense, Army Corps of Engineers, Walla Walla District, is responsible for notifying the Confederated Tribes of the Colville Reservation, Washington; Confederated Tribes of the Umatilla Indian Reservation, Oregon; Confederated Tribes and Bands of the Yakama Nation, Washington; Nez Perce Tribe, Idaho; and the Wanapum Band, a non-Federally recognized Indian group, that this notice has been published.

Dated: May 4, 2010
Sherry Hutt,
Manager, National NAGPRA Program.

[FR Doc. 2010-11352 Filed 5-11-10; 8:45 am]

BILLING CODE 4312-50-S